DEPARTMENT OF COMMERCE

National Oceanic and Atmospheric Administration

15 CFR Part 902

50 CFR Part 648

RIN 0648-AU80

[Docket No. 061016268-7080-02; I.D. 100506E]

Fisheries of the Northeastern United States; Regulatory Amendment to Modify Recordkeeping and Reporting and Observer Requirements

AGENCY: National Marine Fisheries Service (NMFS), National Oceanic and Atmospheric Administration (NOAA), Commerce.

ACTION: Final rule.

SUMMARY: NMFS issues this final rule to implement measures to modify the existing reporting and recordkeeping requirements for federally permitted seafood dealers/processors, and the observer requirements for participating hagfish vessels. The New England Fishery Management Council (Council) requested that this information collection program be developed to gather additional information on the unique aspects of the hagfish fishery and its interaction with other federally managed fisheries. The information collected from fishery participants (dealers/processors and vessels) will help the Council potentially develop a Hagfish Fishery Management Plan (FMP).

DATES: Effective May 23, 2007.

ADDRESSES: Copies of the regulatory amendment, its Regulatory Impact Review (RIR) and other supporting materials are available from Patricia A. Kurkul, Regional Administrator, Northeast Region, NMFS, One Blackburn Drive, Gloucester, MA 01930.

Written comments regarding the burden-hour estimates or other aspects of the collection-of-information requirements contained in this final rule may be submitted to Patricia A. Kurkul at the above address and by e-mail to David_Rostker@omb.eop.gov, or by fax to (202) 395-7285.

FOR FURTHER INFORMATION CONTACT: Douglas Potts, Fishery Management Specialist, (978) 281-9341.

SUPPLEMENTARY INFORMATION:

Background

On October 3, 2006, the Council sent NMFS a request to prepare an information collection program for the Atlantic hagfish fishery under the provisions of section 402(a) of the Magnuson-Stevens Fishery Conservation and Management Act (Magnuson-Stevens Act). The request is based on a desire to improve upon the quality and quantity of information available on the hagfish resource and its fishery operations. The Council plans to use this information to determine whether future management measures for hagfish under an FMP are necessary. Without this information collection on hagfish, future management measures may not capture accurately the geographic and seasonal aspects of the fishery, which reflect overseas demand, and ensure that the resource may be sustained in future years. This collection of information (with changes, as appropriate) may be extended through the development and implementation of a Hagfish FMP.

The Atlantic hagfish (Myxine glutinosa) fishery in New England was developed in the early 1990s, with the first reported landings of around 1 million lb (454 mt) in 1993. Korean buyers quickly recognized that a fishery in the New England area could provide the high-quality hagfish skins used in making leather, as well as hagfish meat for human consumption. Reported hagfish landings quadrupled during the first 4 years of the fishery (1993-1996), exceeding the highest reported landings in other North American hagfish fisheries (including British Columbia, Oregon, Washington, California, and Nova Scotia) by 1994.

Today, the hagfish fishery relies on revenues from the export of whole frozen hagfish product overseas, primarily to South Korea, for meat consumption. The hagfish fishery prosecuted off the coast of Gloucester, MA has changed from an inshore fishery comprised of small vessels to an offshore fishery that consists of large vessels. According to reports from a workshop that was held to identify the challenges in collecting information on this fishery, the reason for this change in the way the fishery is being conducted is that the fishery has experienced localized depletion in nearshore waters, necessitating movement of fishing effort to areas not historically fished for hagfish.

Dealer/processor Permitting and Reporting Requirements

To meet the Council's request for information, this final rule will require that all seafood dealers who intend to purchase hagfish caught in or from the Exclusive Economic Zone (EEZ) to be permitted under § 648.6, and to submit, on a weekly basis, an electronic dealer report containing the required trip-level information for each purchase of hagfish made from fishing vessels, as per the regulations at § 648.7. Hagfish dealers will be required to obtain an initial dealer permit upon implementation of the hagfish information collection requirements and to renew the permit annually thereafter. Reports furnished by permitted dealers will help determine the level of discards and discard mortality of hagfish returned to the sea in response to rejection by the dealer in port. In addition, the collection of dealer purchase reports will help to verify landings reported in Vessel Trip Reports (VTRs) for those vessels that have VTR requirements, and for those that do not, the dealers will be required to report vessel identifiers. It is unlikely that additional dealers will join the fishery because the fishery is driven by a narrowly focused export market (South Korea only) that is currently in equilibrium with supply. However, this permitting and reporting requirement will also enable the identification of any new vessel and/or dealer entrants into the fishery.

Dealer/processor Reports

All federally permitted seafood dealers subject to this final rule will be required to complete all sections of the Annual Processed Products Report (§ 648.7). The report can be used by the Council in developing an FMP, to estimate processing capacity, and to forecast and subsequently measure the potential economic impact of fishery management regulations on fish and shellfish supplies. Employment data collected through the report can also be used to analyze the seasonality of the fishery.

Observer Requirement

Under the hagfish information collection program, any vessel owner/operator that fishes for, catches, or lands hagfish, or intends to fish for, catch, or land hagfish in or from the EEZ will be required to carry an observer when requested by the Regional Administrator in accordance with § 648.11. Consistent with current observer regulations, hagfish vessel owners/operators will be required to call to arrange deployment of NMFS-approved observers on their vessels and to ensure adequate space for the observer aboard their vessels, once requested to carry an observer by the Regional Administrator. Although the vessels must call to arrange deployment of observers, hagfish vessels will not be required to pay for the observers; funding of observer coverage for this fishery will be provided by NMFS. These requests will be made for the purpose of monitoring fishing activities, collecting biological data, and complying with the information collection program requirements. Observers are particularly important because of the high discard rates that have been reported to occur in the hagfish fishery and because the proportion of the catch that is rejected by the dealer and later discarded at sea is not currently measured.

The hagfish observer coverage objectives will focus on the collection of basic fleet information and observations of fishing behavior, including, but not limited to, the distribution of fishing effort, number of hauls per trip, area/depth fished, trip length, soak time, discard rates of hagfish or other species, gear type/configuration, and gear deployment methodology. Understanding and quantifying the likelihood of marine mammal and sea turtle entanglements that may occur in hagfish gear in the areas fished is also an important observer program objective. The configuration of hagfish gear is similar enough to lobster gear that it is believed to pose the same or similar entanglement threat to large whales; and there have been two large whale entanglements documented in the hagfish fishery: One in 1997 involving entanglement of a finback whale; and one in 2002 involving a humpback whale.

Comments and Responses

The deadline for comments on the proposed rule was December 1, 2006. NMFS received one comment letter that did not address the proposed rule.

Classification

The Administrator, Northeast Region, NMFS, determined that this regulatory amendment is necessary for the conservation and management of the hagfish fishery and that it is consistent with the Magnuson-Stevens Act and other applicable laws.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification or the economic impacts of this proposed rule. As a result, a regulatory flexibility analysis was not required and none was prepared.

This final rule contains a collection-of-information requirement subject to the Paperwork Reduction Act (PRA) and which has been approved by OMB under control numbers 0648-0018, 0648-0229, and 0648-0555. The estimated public reporting burden per individual response for the new and revised collection of information requirements related to the hagfish information collection program are estimated to average: 2 minutes to request an observer (OMB #0648-0555); 4 minutes for a dealer purchase report (OMB #0648-0229); 15 minutes and 5 minutes for initial dealer permit application/renewal application (OMB #0648-0555), respectively; and 30 minutes for the Annual Processed Products Report (OMB #0648-0018). These reporting burden estimates include the time for reviewing instructions, searching existing data sources, gathering and maintaining the data needed, and completing and reviewing the collection of information. Send comments regarding these burden estimates or any other aspect of this data collection, including suggestions for reducing the burden, to NMFS (see ADDRESSES) and by e-mail to David_Rostker@omb.eop.gov, or fax to 202-395-7285. Notwithstanding any other provision of the law, no person is required to respond to, and no person shall be subject to penalty for failure to comply with, a collection of information subject to the requirements of the PRA, unless that collection of information displays a currently valid OMB control number.

List of Subjects

15 CFR Part 902

Reporting and recordkeeping requirements.

50 CFR Part 648

Fisheries, Fishing, Reporting and recordkeeping requirements.

Dated: April 13, 2007.
Samuel D. Rauch III,
Deputy Assistant Administrator for Regulatory Programs, National Marine Fisheries Service.

For the reasons set out in the preamble, 15 CFR chapter IX, part 902, and 50 CFR chapter VI, part 648, are amended as follows:

PART 902—NOAA INFORMATION COLLECTION REQUIREMENTS UNDER THE PAPERWORK REDUCTION ACT: OMB CONTROL NUMBERS

1. The authority citation for part 902 continues to read as follows:

Authority: 44 U.S.C. 350 et seq.

2. In § 902.1, the table in paragraph (b) under “50 CFR” is amended by revising entries for 648.6 and 648.11, in numerical order, to read as follows:

§ 902.1 OMB control numbers assigned pursuant to the paperwork Reduction Act

* * * * *

CFR part or section where the information collection requirement is located | Current OMB control number the information (All numbers begin with 0648-)
* * * * * |
50 CFR |
* * * * *
648.6 | -0202, -0555
* * * * * |
648.11 | -0202, -0555
* * * * * |

50 CFR Chapter VI

PART 648—FISHERIES OF THE NORTHEASTERN UNITED STATES

1. The authority citation for part 648 continues to read as follows:

Authority: 16 U.S.C. 1801 et seq.

2. In § 648.2, a new definition for “Atlantic hagfish” is added, in alphabetical order, to read as follows:

§ 648.2 Definitions.

* * * * *

Atlantic hagfish means Myxine glutinosa.

* * * * *

3. In § 648.6, paragraph (a)(1) is revised to read as follows:

§ 648.6 Dealer/processor permits.

(a) * * *

(1) All dealers of NE multispecies, monkfish, skates, Atlantic herring, Atlantic sea scallop, Atlantic deep-sea red crab, spiny dogfish, summer flounder, Atlantic surf clam, ocean quahog, Atlantic mackerel, squid, butterfish, scup, bluefish, tilefish, and black sea bass; Atlantic surf clam and ocean quahog processors; Atlantic hagfish dealers and/or processors, and Atlantic herring processors or dealers, as described in § 648.2; must have been issued under this section, and have in their possession, a valid permit or permits for these species.

* * * * *

4. In § 648.7, paragraph (a)(3)(iv) is added to read as follows:

§ 648.7 Recordkeeping and reporting requirements.

(a) * * *

(3) * * *

(iv) Atlantic hagfish processors must complete and submit all sections of the Annual Processed Products Report.

* * * * *

5. In § 648.11, paragraph (a) is revised to read as follows:

§ 648.11 At-sea sea sampler/observer coverage.

(a) The Regional Administrator may request any vessel holding a permit for Atlantic sea scallops, NE multispecies, monkfish, skates, Atlantic mackerel, squid, butterfish, scup, black sea bass, bluefish, spiny dogfish, Atlantic herring, tilefish, or Atlantic deep-sea red crab; or a moratorium permit for summer flounder; to carry a NMFS-approved sea sampler/observer. Also, any vessel or vessel owner/operator that fishes for, catches or lands hagfish, or intends to fish for, catch, or land hagfish in or from the exclusive economic zone must carry a NMFS-approved sea sampler/observer when requested by the Regional Administrator in accordance with the requirements of this section.

* * * * *

[FR Doc. 07-1953 Filed 4-20-07; 8:45 am]

BILLING CODE 3510-22-S